ENVIRONMENTAL PROTECTION AGENCY

[EPA-R04-OW-2013-0470] [FRL-9902-76-Region 4]

Public Water System Supervision Program Revision for the Commonwealth of Kentucky

AGENCY: U.S. Environmental Protection Agency (EPA).

ACTION: Notice of tentative approval.

SUMMARY: Notice is hereby given that the Commonwealth of Kentucky is revising its approved Public Water System Supervision Program. Kentucky has adopted the following rules: Consumer Confidence Report, Ground Water and Long Term 1 Enhanced Surface Water Treatment. The EPA has determined that Kentucky's rules are no less stringent than the corresponding federal regulations. Therefore, the EPA is tentatively approving this revision to the Commonwealth of Kentucky's Public Water System Supervision Program.

DATES: Any interested person may request a public hearing. A request for a public hearing must be submitted by December 12, 2013, to the Regional Administrator at the EPA Region 4 address shown below. The Regional Administrator may deny frivolous or insubstantial requests for a hearing. However, if a substantial request for a public hearing is made by December 12, 2013, a public hearing will be held. If the EPA Region 4 does not receive a timely and appropriate request for a hearing and the Regional Administrator does not elect to hold a hearing on his own motion, this tentative approval shall become final and effective on December 12, 2013. Any request for a public hearing shall include the following information: The name, address and telephone number of the individual, organization or other entity requesting a hearing; a brief statement of the requesting person's interest in the Regional Administrator's determination and a brief statement of the information that the requesting person intends to submit at such hearing; and the signature of the individual making the request or, if the request is made on behalf of an organization or other entity, the signature of a responsible official of the organization or other entity.

ADDRESSES: All documents relating to this determination are available for inspection between the hours of 8:30 a.m. and 4:30 p.m., Monday through Friday, at the following offices: Kentucky Department for Environmental Protection, Division of Water, 200 Fair Oaks Lane, Fourth Floor, Frankfort, Kentucky 40601; and the U.S. Environmental Protection Agency Region 4, Safe Drinking Water Branch, 61 Forsyth Street SW., Atlanta, Georgia 30303.

FOR FURTHER INFORMATION CONTACT: Mr. Brian Thames, the EPA Region 4, Safe Drinking Water Branch, at the address given above, by telephone at (404) 562-9454, or at thames.brian@epa.gov.

EPA Analysis: On November 19, 2009, the Commonwealth of Kentucky submitted requests that the Region approve revisions to the Commonwealth's Safe Drinking Water Act Public Water System Supervision Program to include the authority to implement and enforce the Consumer Confidence Report Rule and the Long Term 1 Enhanced Surface Water Treatment Rule. On October 14, 2010, the Commonwealth of Kentucky also submitted a request that the Region approve revisions to the Commonwealth's Safe Drinking Water Act Public Water System Supervision Program to include the authority to implement and enforce the Ground Water rule. For the revisions to be approved, the EPA must find the State Rules, 401 KAR 8:075, Section 1(1); 401 KAR 8:150, Section 8; and 401 KAR 8:150, Section 10 to be no less stringent than the Federal Rules codified at 40 CFR part 141, Subpart O—Consumer Confidence Reports; 40 CFR part 141, Subpart T—Enhanced Filtration and Disinfection—Systems Serving Fewer Than 10,000 People; and 40 CFR part 141, Subpart S—Ground Water Rule. The EPA reviewed the applications using the Federal statutory provisions (Section 1413 of the Safe Drinking Water Act), Federal regulations (at 40 CFR part 142), State regulations, rule crosswalks, and EPA regulatory guidance to determine whether the request for revisions is approvable. The EPA determined that the Kentucky revisions are no less stringent than the corresponding Federal regulations.

EPA Action: The EPA is tentatively approving this revision. If the EPA does not receive a timely and appropriate request for a hearing and the Regional Administrator does not elect to hold a hearing on his own motion, this tentative approval will become final and effective on December 12, 2013.

Authority: Section 1413 of the Safe Drinking Water Act, as amended (1996), and 40 CFR part 142.

Dated: October 29, 2013.
A. Stanley Meiburg,
Acting Regional Administrator, Region 4.

[FR Doc. 2013-27022 Filed 11-8-13; 8:45 am]

BILLING CODE 6560-50-P